DEPARTMENT OF ENERGY

Federal Energy Regulatory Commission

[Project No. 1992-003]

Fire Mountain Lodge; Notice of Application Tendered for Filing With the Commission, Soliciting Additional Study Requests, and Establishing Procedural Schedule for Relicensing and a Deadline for Submission of Final Amendments

May 7, 2008.

Take notice that the following hydroelectric application has been filed with the Commission and is available for public inspection.

a. Type of Application: Existing Minor License.

b. Project No.: 1992-003.

c. Date Filed: April 25, 2008.

d. Applicant: Ken Willis.

e. Name of Project: Fire Mountain Lodge.

f. Location: On Fern Spring in Tehama County, California. The project is located primarily on privately owned land except for a small portion of the dam and reservoir which is located on U.S. Forest Service land.

g. Filed Pursuant to: Federal Power Act 16 U.S.C. 791 (a)-825(r).

h. Applicant Contact: Ken Willis, Fire Mountain Lodge, 43500 Highway 36, Mill Creek, CA 96060, (530) 258-1952.

i. FERC Contact: Matt Buhyoff, (202) 502-6824 or matt.buhyoff@ferc.gov

j. Cooperating agencies: We are asking Federal, State, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 24, 2008.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. The existing Fire Mountain Lodge project consists of: (1) A 265-foot-long earth and concrete filled dam; (2) a 0.24-acre reservoir; (3) a 38 inch intake tower; (4) a 1540-foot-long penstock; (7) a powerhouse with an installed capacity of 60-kilowatts; a (8) a 4000 foot-long transmission line and; (9) appurtenant facilities. The power generated by the project is utilized for commercial and residential purposes, solely for the owners of Fire Mountain Lodge, a self-provider of electricity.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the California State Historic Preservation Officer (SHPO), as required by § 106, National Historic Preservation Act, and the regulations of the Advisory Council on Historic Preservation, 36, CFR, at § 800.4.

q. Procedural schedule and final amendments: The application will be processed according to the following Hydro Licensing Schedule. Revisions to the schedule will be made as appropriate.

Issue Deficiency Letter—June 2008.

Issue Acceptance letter—June 2008.

Issue Scoping Document 1 for comments—June 2008.

Request Additional Information—July 2008.

Issue Scoping Document 2—August 2008.

Notice of application is ready for environmental analysis—October 2008.

Notice of the availability of the draft EA—April 2009.

Final amendments to the application must be filed with the Commission no later than 30 days from the issuance date of the notice of ready for environmental analysis.

Kimberly D. Bose,
Secretary.

[FR Doc. E8-10957 Filed 5-15-08; 8:45 am]

BILLING CODE 6717-01-P